DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Thursday, May 6 and Friday, May 7, 2004, in Redding, California. On May 6, the meeting begins at 10 a.m. at the BLM Redding Field Office, 355 Hemsted Drive. Members will depart for a field tour of public lands in the Sacramento River Bend Area. On May 7, the meeting begins at 8 a.m. at the McConnell Foundation headquarters, 800 Shasta View Drive in Redding. Time for public comment has been set aside for 1 p.m.

FOR FURTHER INFORMATION CONTACT: Francis Berg, BLM Redding Field Office, 355 Hemsted Dr., (530) 224-2100; or BLM Public Affairs Officer Joseph J. Fontana, (530) 252-5332.

SUPPLEMENTARY INFORMATION: The 12-member council advises the Secretary of the Interior, through the BLM, on a variety of planning and management issues associated with public land management in Northwest California. At this meeting, agenda topics will include discussion of recreation management on BLM-managed lands in Northwest California, an agreement with the state Department of Forestry and Fire Protection on fire protection zones, and issue scoping for development of a Resource Management Plan for the BLM Ukiah Field Office. The RAC members will also hear status reports from the Arcata, Redding and Ukiah field office managers. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: March 19, 2004.
Joseph J. Fontana,
Public Affairs Officer.

[FR Doc. 04-6631 Filed 3-24-04; 8:45 am]

BILLING CODE 4310-40-P